DEPARTMENT OF HEALTH AND HUMAN SERVICES

National Institutes of Health

Center for Scientific Review; Amended Notice of Meeting

Notice is hereby given of a change in the meeting of the Center for Scientific Review Special Emphasis Panel, March 4, 2004, 1:30 p.m. to March 4, 2004, 2:15 p.m., National Institutes of Health, 6701 Rockledge Drive, Bethesda, MD, 20892 which was published in the Federal Register on February 13, 2004, 69 FR 7240-7241.

The meeting will be held March 1, 2004, from 10 a.m. to 11 a.m. The location remains the same. The meeting is closed to the public.

Dated: February 24, 2004.
LaVerne Y. Stringfield,
Director, Office of Federal Advisory Committee Policy.

[FR Doc. 04-4533 Filed 3-1-04; 8:45 am]

BILLING CODE 4140-01-M